SURFACE TRANSPORTATION BOARD

49 CFR Part 1002

[Docket No. EP 542 (Sub-No. 31)]

Fees for Services Performed in Connection With Licensing and Related Services—2023 Update

AGENCY: Surface Transportation Board.

ACTION: Final rule.

SUMMARY: The Board updates for 2023 the fees that the public must pay to file certain cases and pleadings with the Board. Pursuant to this update, 76 of the Board's 136 fees will increase, and 60 fees will remain at their current levels.

DATES: This final rule is effective September 29, 2023.

FOR FURTHER INFORMATION CONTACT: Laura Mizner, (202) 245-0318, or Andrea Pope-Matheson, (202) 245-0363. If you require an accommodation under the Americans with Disabilities Act, please call (202) 245-0245.

SUPPLEMENTARY INFORMATION: The Board's regulations at 49 CFR 1002.3(a) provide for an annual update of the Board's entire user-fee schedule. Fees are generally revised based on the cost study formula set forth at 49 CFR 1002.3(d), which looks to changes in salary costs, publication costs, and Board overhead cost factors. Applying that formula, 76 of the Board's 136 fees will be increased and 60 will remain at their current levels.

Additional information is contained in the Board's decision. To obtain a free copy of the full decision, visit the Board's website at www.stb.gov or call (202) 245-0245. If you require an accommodation under the Americans with Disabilities Act, please call (202) 245-0245.

List of Subjects in 49 CFR Part 1002

Administrative practice and procedure, Common carriers, Freedom of information.

Decided: August 24, 2023.
By the Board, Board Members Fuchs, Hedlund, Oberman, Primus, and Schultz.
Regena Smith-Bernard,
Clearance Clerk.

For the reasons set forth in the preamble, title 49, chapter X, part 1002, of the Code of Federal Regulations is amended as follows:

PART 1002—FEES

1. The authority citation for part 1002 continues to read as follows:

Authority: 5 U.S.C. 552(a)(4)(A), (a)(6)(B), and 553; 31 U.S.C. 9701; and 49 U.S.C. 1321. Section 1002.1(f)(11) is also issued under 5 U.S.C. 5514 and 31 U.S.C. 3717.

2. Section 1002.1 is amended by revising paragraphs (a), (b), and (c) to read as follows:

§ 1002.1 Fees for records search, review, copying, certification, and related services.

* * * * *

(a) Certificate of the Records Officer, $22.00.

(b) Services involved in examination of tariffs or schedules for preparation of certified copies of tariffs or schedules or extracts therefrom at the rate of $51.00 per hour.

(c) Services involved in checking records to be certified to determine authenticity, including clerical work, etc. incidental thereto, at a rate of $35.00 per hour.

* * * * *

3. Section 1002.2 is amended by revising paragraph (f) to read as follows:

(f) Schedule of filing fees.

Type of proceeding | Fee
PART I: Non-Rail Applications or Proceedings to Enter Into a Particular Financial Transaction or Joint Arrangement
(1) An application for the pooling or division of traffic | $5,800.
(2)(i) An application involving the purchase, lease, consolidation, merger, or acquisition of control of a motor carrier of passengers under 49 U.S.C. 14303 | $2,600.
(ii) A petition for exemption under 49 U.S.C. 13541 (other than a rulemaking) filed by a non-rail carrier not otherwise covered | $4,100.
(iii) A petition to revoke an exemption filed under 49 U.S.C. 13541(d) | $3,400.
(3) An application for approval of a non-rail rate association agreement. 49 U.S.C. 13703 | $36,500.
(4) An application for approval of an amendment to a non-rail rate association agreement:
(i) Significant amendment | $6,000.
(ii) Minor amendment | $100.
(5) An application for temporary authority to operate a motor carrier of passengers. 49 U.S.C. 14303(i) | $650.
(6) A notice of exemption for transaction within a motor passenger corporate family that does not result in adverse changes in service levels, significant operational changes, or a change in the competitive balance with motor passenger carriers outside the corporate family | $2,100.
(7)-(10) [Reserved]
PART II: Rail Licensing Proceedings Other Than Abandonment or Discontinuance Proceedings
(11)(i) An application for a certificate authorizing the extension, acquisition, or operation of lines of railroad. 49 U.S.C. 10901 | $9,500.
(ii) Notice of exemption under 49 CFR 1150.31 through 1150.35 | $2,200.
(iii) Petition for exemption under 49 U.S.C. 10502 | $16,600.
(12)(i) An application involving the construction of a rail line | $98,900.
(ii) A notice of exemption involving construction of a rail line under 49 CFR 1150.36 | $2,200.
(iii) A petition for exemption under 49 U.S.C. 10502 involving construction of a rail line | $98,900.
(iv) A request for determination of a dispute involving a rail construction that crosses the line of another carrier under 49 U.S.C. 10902(d) | $350.
(13) A Feeder Line Development Program application filed under 49 U.S.C. 10907(b)(1)(A)(i) or 10907(b)(1)(A)(ii) | $2,600.
(14)(i) An application of a class II or class III carrier to acquire an extended or additional rail line under 49 U.S.C. 10902 | $8,100.
(ii) Notice of exemption under 49 CFR 1150.41 through 1150.45 | $2,200.
(iii) Petition for exemption under 49 U.S.C. 10502 relating to an exemption from the provisions of 49 U.S.C. 10902 | $8,700.
(15) A notice of a modified certificate of public convenience and necessity under 49 CFR 1150.21 through 1150.24 | $2,100.
(16) An application for a land-use-exemption permit for a facility existing as of October 16, 2008 under 49 U.S.C. 10909 | $7,900.
(17) An application for a land-use-exemption permit for a facility not existing as of October 16, 2008 under 49 U.S.C. 10909 | $28,000.
(18)-(20) [Reserved]
PART III: Rail Abandonment or Discontinuance of Transportation Services Proceedings
(21)(i) An application for authority to abandon all or a portion of a line of railroad or discontinue operation thereof filed by a railroad (except applications filed by Consolidated Rail Corporation pursuant to the Northeast Rail Service Act [Subtitle E of Title XI of Pub. L. 97-35], bankrupt railroads, or exempt abandonments) | $29,300.
(ii) Notice of an exempt abandonment or discontinuance under 49 CFR 1152.50 | $4,700.
(iii) A petition for exemption under 49 U.S.C. 10502 | $8,300.
(22) An application for authority to abandon all or a portion of a line of a railroad or operation thereof filed by Consolidated Rail Corporation pursuant to Northeast Rail Service Act | $600.
(23) Abandonments filed by bankrupt railroads | $2,500.
(24) A request for waiver of filing requirements for abandonment application proceedings | $2,400.
(25) An offer of financial assistance under 49 U.S.C. 10904 relating to the purchase of or subsidy for a rail line proposed for abandonment | $2,000.
(26) A request to set terms and conditions for the sale of or subsidy for a rail line proposed to be abandoned | $30,000.
(27)(i) Request for a trail use condition in an abandonment proceeding under 16 U.S.C. 1247(d) | $350.
(ii) A request to extend the period to negotiate a trail use agreement | $600.
(28)-(35) [Reserved]
PART IV: Rail Applications to Enter Into a Particular Financial Transaction or Joint Arrangement
(36) An application for use of terminal facilities or other applications under 49 U.S.C. 11102 | $25,000.
(37) An application for the pooling or division of traffic. 49 U.S.C. 11322 | $13,500.
(38) An application for two or more carriers to consolidate or merge their properties or franchises (or a part thereof) into one corporation for ownership, management, and operation of the properties previously in separate ownership. 49 U.S.C. 11324:
(i) Major transaction | $1,975,600.
(ii) Significant transaction | $395,100.
(iii) Minor transaction | $9,400.
(iv) Notice of an exempt transaction under 49 CFR 1180.2(d) | $2,100.
(v) Responsive application | $9,400.
(vi) Petition for exemption under 49 U.S.C. 10502 | $12,300.
(vii) A request for waiver or clarification of regulations filed in a major financial proceeding as defined at 49 CFR 1180.2(a) | $7,300.
(39) An application of a non-carrier to acquire control of two or more carriers through ownership of stock or otherwise. 49 U.S.C. 11324:
(i) Major transaction | $1,975,600.
(ii) Significant transaction | $395,100.
(iii) Minor transaction | $9,400.
(iv) A notice of an exempt transaction under 49 CFR 1180.2(d) | $1,600.
(v) Responsive application | $9,400.
(vi) Petition for exemption under 49 U.S.C. 10502 | $12,300.
(vii) A request for waiver or clarification of regulations filed in a major financial proceeding as defined at 49 CFR 1180.2(a) | $7,300.
(40) An application to acquire trackage rights over, joint ownership in, or joint use of any railroad lines owned and operated by any other carrier and terminals incidental thereto. 49 U.S.C. 11324:
(i) Major transaction | $1,975,600.
(ii) Significant transaction | $395,100.
(iii) Minor transaction | $9,400.
(iv) Notice of an exempt transaction under 49 CFR 1180.2(d) | $1,500.
(v) Responsive application | $9,400.
(vi) Petition for exemption under 49 U.S.C. 10502 | $12,300.
(vii) A request for waiver or clarification of regulations filed in a major financial proceeding as defined at 49 CFR 1180.2(a) | $7,300.
(41) An application of a carrier or carriers to purchase, lease, or contract to operate the properties of another, or to acquire control of another by purchase of stock or otherwise. 49 U.S.C. 11324:
(i) Major transaction | $1,975,600.
(ii) Significant transaction | $395,100.
(iii) Minor transaction | 9,400.
(iv) Notice of an exempt transaction under 49 CFR 1180.2(d) | $1,700.
(v) Responsive application | $9,400.
(vi) Petition for exemption under 49 U.S.C. 10502 | $8,700.
(vii) A request for waiver or clarification of regulations filed in a major financial proceeding as defined at 49 CFR 1180.2(a) | $7,300.
(42) Notice of a joint project involving relocation of a rail line under 49 CFR 1180.2(d)(5) | $3,000.
(43) An application for approval of a rail rate association agreement. 49 U.S.C. 10706 | $92,500.
(44) An application for approval of an amendment to a rail rate association agreement. 49 U.S.C. 10706:
(i) Significant amendment | $17,100.
(ii) Minor amendment | $100.
(45) An application for authority to hold a position as officer or director under 49 U.S.C. 11328 | $1,000.
(46) A petition for exemption under 49 U.S.C. 10502 (other than a rulemaking) filed by rail carrier not otherwise covered | $10,500.
(47) National Railroad Passenger Corporation (Amtrak) conveyance proceeding under 45 U.S.C. 562 | $350.
(48) National Railroad Passenger Corporation (Amtrak) compensation proceeding under section 402(a) of the Rail Passenger Service Act | $350.
(49)-(55) [Reserved]
PART V: Formal Proceedings
(56) A formal complaint alleging unlawful rates or practices of carriers:
(i) A formal complaint filed under the coal rate guidelines (Stand-Alone Cost Methodology) alleging unlawful rates and/or practices of rail carriers under 49 U.S.C. 10704(c)(1) | $350.
(ii) A formal complaint involving rail maximum rates filed under the Simplified-SAC methodology | $350.
(iii) A formal complaint involving rail maximum rates filed under the Three Benchmark methodology | $150.
(iv) A formal complaint involving rail maximum rates filed under the Final Offer Rate Review procedure | $150.
(v) All other formal complaints (except competitive access complaints) | $350.
(vi) Competitive access complaints | $150.
(vii) A request for an order compelling a rail carrier to establish a common carrier rate | $350.
(57) A complaint seeking or a petition requesting institution of an investigation seeking the prescription or division of joint rates or charges. 49 U.S.C. 10705 | $11,700.
(58) A petition for declaratory order:
(i) A petition for declaratory order involving a dispute over an existing rate or practice which is comparable to a complaint proceeding | $1,000.
(ii) All other petitions for declaratory order | $1,400.
(59) An application for shipper antitrust immunity. 49 U.S.C. 10706(a)(5)(A) | $9,200.
(60) Labor arbitration proceedings | $350.
(61)(i) An appeal of a Surface Transportation Board decision on the merits or petition to revoke an exemption pursuant to 49 U.S.C. 10502(d) | $350.
(ii) An appeal of a Surface Transportation Board decision on procedural matters except discovery rulings | $500.
(62) Motor carrier undercharge proceedings | $350.
(63)(i) Expedited relief for service inadequacies: A request for expedited relief under 49 U.S.C. 11123 and 49 CFR part 1146 for service emergency | $350.
(ii) Expedited relief for service inadequacies: A request for temporary relief under 49 U.S.C. 10705 and 11102, and 49 CFR part 1147 for service inadequacy | $350.
(64) A request for waiver or clarification of regulations except one filed in an abandonment or discontinuance proceeding, or in a major financial proceeding as defined at 49 CFR 1180.2(a) | $750.
(65)-(75) [Reserved]
PART VI: Informal Proceedings
(76) An application for authority to establish released value rates or ratings for motor carriers and freight forwarders of household goods under 49 U.S.C. 14706 | $1,600.
(77) An application for special permission for short notice or the waiver of other tariff publishing requirements | $150.
(78)(i) The filing of tariffs, including supplements, or contract summaries | $1 per page ($32 min charge).
(ii) The filing of water carrier annual certifications | $32.
(79) Special docket applications from rail and water carriers:
(i) Applications involving $25,000 or less | $75.
(ii) Applications involving over $25,000 | $200.
(80) Informal complaint about rail rate applications | $800.
(81) Tariff reconciliation petitions from motor common carriers:
(i) Petitions involving $25,000 or less | $75.
(ii) Petitions involving over $25,000 | $200.
(82) Request for a determination of the applicability or reasonableness of motor carrier rates under 49 U.S.C. 13710(a)(2) and (3) | $300.
(83) Filing of documents for recordation. 49 U.S.C. 11301 and 49 CFR 1177.3(c). | $54 per document.
(84) Informal opinions about rate applications (all modes) | $350.
(85) A railroad accounting interpretation | $1,500.
(86)(i) A request for an informal opinion not otherwise covered | $1,900.
(ii) A proposal to use on a voting trust agreement pursuant to 49 CFR part 1013 and 49 CFR 1180.4(b)(4)(iv) in connection with a major control proceeding as defined at 49 CFR 1180.2(a) | $6,800.
(iii) A request for an informal opinion on a voting trust agreement pursuant to 49 CFR 1013.3(a) not otherwise covered | $650.
(87) Arbitration of certain disputes subject to the statutory jurisdiction of the Surface Transportation Board under 49 CFR part 1108:
(i) Complaint | $75.
(ii) Answer (per defendant), Unless Declining to Submit to Any Arbitration | $75.
(iii) Third Party Complaint | $75.
(iv) Third Party Answer (per defendant), Unless Declining to Submit to Any Arbitration | $75.
(v) Appeals of Arbitration Decisions or Petitions to Modify or Vacate an Arbitration Award | $150.
(88) Basic fee for STB adjudicatory services not otherwise covered | $350.
(89)-(95) [Reserved]
PART VII: Services
(96) Messenger delivery of decision to a railroad carrier's Washington, DC agent | $42 per delivery.
(97) Request for service or pleading list for proceedings | $32 per list.
(98) Processing the paperwork related to a request for the Carload Waybill Sample to be used in an STB or State proceeding that:
(i) Annual request does not require a Federal Register (FR) notice:
(A) Set cost portion | $200.
(B) Sliding cost portion | $62 per party.
(ii) Annual request does require a FR notice:
(A) Set cost portion | $450.
(B) Sliding cost portion | $62 per party.
(iii) Quarterly request does not require a FR notice:
(A) Set cost portion | $54.
(B) Sliding cost portion | $15 per party.
(iv) Quarterly request does require a FR notice:
(A) Set cost portion | $236.
(B) Sliding cost portion | $15 per party.
(v) Monthly request does not require a FR notice:
(A) Set cost portion | $18.
(B) Sliding cost portion | $5 per party.
(vi) Monthly request does require a FR notice:
(A) Set cost portion | $179.
(B) Sliding cost portion | $5 per party.
(99)(i) Application fee for the STB's Practitioners' Exam | $250.
(ii) Practitioners' Exam Information Package | $25.
(100) Carload Waybill Sample data:
(i) Requests for Public Use File for all years prior to the most current year Carload Waybill Sample data available, provided on CD-R | $250 per year.
(ii) Specialized programming for Waybill requests to the Board | $141 per hour.

* * * * *

[FR Doc. 2023-18740 Filed 8-29-23; 8:45 am]

BILLING CODE 4915-01-P